ENVIRONMENTAL PROTECTION AGENCY

40 CFR Parts 239 and 258

[EPA-R10-RCRA-2016-0622; FRL 9928-26-Region 10]

Determination of Full Program Adequacy of Washington's Municipal Solid Waste Landfill Permit Program

AGENCY: Environmental Protection Agency (EPA).

ACTION: Proposed rule.

SUMMARY: Under the Resource Conservation and Recovery Act, as amended by the Hazardous and Solid Waste Amendments, States must develop and implement permit programs for Municipal Solid Waste Landfills (MSWLF) and seek an adequacy determination by the Environmental Protection Agency (EPA). This proposed rule documents EPA's determination that Washington's MSWLF permit program is adequate to ensure compliance with Federal MSWLF requirements.

DATES: Comments on this proposed action must be received in writing on or before January 27, 2017.

ADDRESSES: Submit your comments, identified by Docket ID No. EPA-R10-RCRA-2016-0622 by one of the following methods:

• www.regulations.gov: Follow the on-line instructions for submitting comments.

• Email: calabro.domenic@epa.gov.

• Fax: (206) 553-6640, to the attention of Domenic Calabro.

• Mail: Send written comments to Domenic Calabro, U.S. EPA, Region 10, 1200 Sixth Avenue, Suite 900, Mailstop: AW-150, Seattle, WA 98101.

• Hand Delivery or Courier: Deliver your comments to: Domenic Calabro, Office of Air and Waste, U.S. EPA, Region 10, 1200 Sixth Avenue, Suite 900, Mailstop: AW-150, Seattle, WA 98101. Such deliveries are only accepted during the Office's normal hours of operation.

FOR FURTHER INFORMATION CONTACT: U.S. EPA Region 10, 1200 Sixth Avenue, Suite 900, Mailcode: AW-150, Seattle, Washington, 98101, Attn: Mr. Domenic Calabro. Telephone: (206) 553-6640.

SUPPLEMENTARY INFORMATION: In the Rules and Regulations section of this issue of the Federal Register, the EPA is granting Washington a determination of full program adequacy for its MSWLF permitting program through a direct final rule without prior proposal, because the EPA views this as a noncontroversial action and anticipates no adverse comments to this action. Unless we receive written adverse comments which oppose this approval during the comment period, the direct final rule will become effective on the date it establishes, and we will not take further action on this proposal. If written adverse comments are received, the EPA will review the comments and publish another Federal Register document responding to the comments and either affirming or revising the initial decision. For additional information, see the direct final rule which is located in the Rules and Regulations section of this issue of the Federal Register.

List of Subjects

40 CFR Part 239

Environmental protection, Administrative practice and procedure, Intergovernmental relations, Waste treatment and disposal.

40 CFR Part 258

Environmental protection, Reporting and recordkeeping requirements, Waste treatment and disposal, Water pollution control.

Authority: This action is issued under the authority of section 2002, 4005 and 4010(c) of the Solid Waste Disposal Act, as amended, 42 U.S.C. 6912, 6945 and 6949(a).

Dated: October 20, 2016.
Dennis J. McLerran,
Regional Administrator, EPA Region 10.

[FR Doc. 2016-26750 Filed 11-25-16; 8:45 am]

BILLING CODE 6560-50-P